DEPARTMENT OF COMMERCE

Economic Development Administration

Notice of Petitions by Firms for Determination of Eligibility To Apply for Trade Adjustment Assistance

AGENCY: Economic Development Administration, Department of Commerce.

ACTION: Notice and opportunity for public comment.

Pursuant to Section 251 of the Trade Act 1974, as amended (19 U.S.C. 2341 et seq.), the Economic Development Administration (EDA) has received petitions for certification of eligibility to apply for Trade Adjustment Assistance from the firms listed below. Accordingly, EDA has initiated investigations to determine whether increased imports into the United States of articles like or directly competitive with those produced by each of these firms contributed importantly to the total or partial separation of the firm's workers, or threat thereof, and to a decrease in sales or production of each petitioning firm.

List of Petitions Received by EDA for Certification Eligibility To Apply for Trade Adjustment Assistance
[7/1/2016 through 8/4/2016]
Firm name | Firm address | Date accepted for investigation | Product(s)
Brighton NC Machine Corporation | 7300 Whitmore Lake Road, Brighton, MI 48116 | 7/27/2016 | The firm manufactures oilpans and other precision machined engine and drivetrain components.
Potomac Electric Corporation | One Westinghouse Plaza, Boston, MA 02136 | 8/2/2016 | The firm manufactures innovative electric motors, control electronics and complex electromechanical systems for industrial and military applications.
John R. Bromiley Company, Inc | 105 South Bristol Road, Chalfont, PA 18914 | 8/2/2016 | The firm manufactures parts that are metal or plastic, machined to customer specifications.
Mack Hils, Inc | 544 North Avenue, Moberly, MO 65270 | 8/2/2016 | The firm produces metal products fabrication, metal stamping and precision machining.
Bilco Tools, Inc | 107 Clendenning Road, Houma, LA 70363 | 8/3/2016 | The firm manufactures handling tools and wellbore clean-up tools for the oil industry.
Capital, LLC d/b/a Freeman Manufacturing Company | 900 West Chicago Road, Sturgis, MI 49091 | 8/3/2016 | The firm manufacturers support garments, medical compression stockings, prosthetic supplies, and traction equipment.
Automation Engineering Company, LLC | 110 Smith Road, Greenville, SC 29615 | 8/3/2016 | The firm designs, manufactures and installs complete industrial automated equipment.
sevenOKs, Inc | 3539 Monroe Street, La Porte, IN 46350 | 8/4/2016 | The firm manufactures insulated bags for food storage and delivery as well as bags for storage and transport of a wide variety of manufactured articles.
SuperTrapp Industries, Inc | 4540 West 160th Street, Cleveland, OH 44135 | 8/4/2016 | The firm manufacturers motorcycle parts and accessories such as exhaust and brake components.

Any party having a substantial interest in these proceedings may request a public hearing on the matter. A written request for a hearing must be submitted to the Trade Adjustment Assistance for Firms Division, Room 71030, Economic Development Administration, U.S. Department of Commerce, Washington, DC 20230, no later than ten (10) calendar days following publication of this notice.

Please follow the requirements set forth in EDA's regulations at 13 CFR 315.9 for procedures to request a public hearing. The Catalog of Federal Domestic Assistance official number and title for the program under which these petitions are submitted is 11.313, Trade Adjustment Assistance for Firms.

Dated: August 4, 2016.
Miriam Kearse,
Lead Program Analyst.

[FR Doc. 2016-18851 Filed 8-8-16; 8:45 am]

BILLING CODE 3510-WH-P